DEPARTMENT OF THE TREASURY

Agency Information Collection Activities; Submission for OMB Review; Comment Request; Internal Revenue Service Improving Customer Experience (OMB Circular A-11, Section 280 Implementation)

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before July 13, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

Title: Improving Customer Experience (OMB Circular A-11, Section 280 Implementation).

OMB Control Number: 1545-NEW.

Type of Review: New Collection.

Description: In March 2018, the Administration of President Trump launched the President's Management Agenda (PMA) and established new Cross-Agency Priority (CAP) Goals. These Presidential actions and requirements establish an ongoing process of collecting customer insights and using them to improve services. This new request will enable the Internal Revenue Service to act in accordance with OMB Circular A-11 Section 280 to ultimately transform the experience of its customers to improve both efficiency and mission delivery and increase accountability by communicating about these efforts with the public. The Agency will collect, analyze, and interpret information gathered through this generic clearance to identify services' accessibility, navigation, and use by customers, and make improvements in service delivery based on customer insights gathered through developing an understanding of the user experience interacting with Government.

Affected Public: Individuals or households; business or other for-profit organizations; not-for-profit institutions; State, local, tribal or Federal government; and Universities.

Estimated Number of Respondents: 679,485.

Frequency of Response: On occasion.

Estimated Total Number of Annual Responses: 679,485.

Estimated Time per Response: 8 minutes to 2 hours.

Estimated Total Annual Burden Hours: 104,155.

(Authority: 44 U.S.C. 3501 et seq.)

Dated: June 8, 2020.
Spencer W. Clark,
Treasury PRA Clearance Officer.

[FR Doc. 2020-12655 Filed 6-10-20; 8:45 am]

BILLING CODE 4830-01-P